DEPARTMENT OF STATE

[Public Notice: 6101]

60-Day Notice of Proposed Information Collection: Form-# DS-1950, Department of State Application for Employment, OMB Control #-Number 1405-0139

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Department of State Application for Employment

• OMB Control Number: 1405-0139

• Type of Request: Revision of a currently approved collection

• Originating Office: Bureau of Human Resources, Office of Recruitment, Examination, Employment (HR/REE)

• Form Number: DS-1950

• Respondents: U.S. Citizens seeking entry into certain Department of State Foreign Service positions and individuals, sophomore through graduate level college and university students, seeking participation in the Department's student programs.

• Estimated Number of Respondents: 20,000

• Estimated Number of Responses: 20,000

• Average Hours Per Response: 1/2 hour

• Total Estimated Burden: 10,000

• Frequency: On occasion

• Obligation to Respond: Required to obtain a benefit

DATES: The Department will accept comments from the public up to 60 days from February 12, 2008.

ADDRESSES: You may submit comments by any of the following methods:

• E-mail: studentinternprogram@state.gov.

• Mail (paper, disk, or CD-ROM submissions): U.S. Department of State—SA-1, HR/REE/REC Room 518H, Attention: Marvin Moore 2401 E Street, NW., Washington DC 20522.

You must include the DS form number (if applicable), information collection title, and OMB control number in any correspondence.

FOR FURTHER INFORMATION CONTACT: Direct requests for additional information regarding the collection listed in this notice, including requests for copies of the proposed information collection and supporting documents, to Marvin E. Moore, Bureau of Human Resources, Recruitment Division, Student Programs, U.S. Department of State, Washington, DC 20520, who may be reached on 202-261-8869 or by e-mail at MooreME1@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The DS-1950 has been the form used by individuals to apply for certain excepted jobs at the Department of State such as Foreign Service specialist and student intern positions. We wish to continue to use this form to clarify interpretation of applicant responses and how applicants become aware of our program opportunities.

Methodology:

The form will be used by applicants for excepted service jobs at the Department of State, such as Student Programs and certain Foreign Service jobs. These programs generate approximately 20,000 applications per year. Data, which is extracted from the form, is necessary to determine qualifications, and selections, in accordance with Federal policies.

Dated: December 12, 2007.
Ruben Torres,
Director, HR/EX, Department of State.

[FR Doc. E8-2570 Filed 2-11-08; 8:45 am]

BILLING CODE 4710-15-P